DEPARTMENT OF THE INTERIOR

Bureau of Land Management

[BLM_CO_FRN_MO4500177646]

Rocky Mountain Resource Advisory Council Announces 2024 Meetings

AGENCY: Bureau of Land Management, Interior.

ACTION: Notice of public meetings.

SUMMARY: In accordance with the Federal Land Policy and Management Act of 1976 and the Federal Advisory Committee Act of 1972, the U.S. Department of the Interior, Bureau of Land Management (BLM) Colorado's Rocky Mountain Resource Advisory Council (RAC) is announcing its 2024 meeting dates.

DATES: The Rocky Mountain RAC will meet as follows:

• April 25, 2024, virtually, from 9 a.m. to noon Mountain Time (MT);

• June 20, 2024, in-person and virtually, from 10 a.m. to 4 p.m. MT. A field tour will be held June 21, 2024, beginning at 9 a.m.;

• September 19, 2024, in-person and virtually, from 10 a.m. to 4 p.m. MT. A field tour will be held Sept. 20, 2024, beginning at 9 a.m.; and

• November 7, 2024, virtually, from 9 a.m. to noon MT.

All meetings and field tours are open to the public.

ADDRESSES: The April 25 meeting will be held through the Zoom platform.

The June 20 meeting will be held and the June 21 field tour will commence and conclude at the BLM's San Luis Valley Field Office at 1313 US-160, Monte Vista, CO 81144, as well as virtually through the Zoom platform.

The Sept. 19 meeting will be held and the Sept. 20 field tour will commence and conclude at the BLM's Royal Gorge Field Office at 3028 East Main Street, Cañon City, CO 81212, as well as virtually through the Zoom platform.

The Nov. 7 meeting will be held virtually through the Zoom platform.

Registration and participation guidelines for all meetings and field tour details will be available on the RAC's web page 30 days in advance of the meetings at https://www.blm.gov/get-involved/resource-advisory-council/near-you/colorado/rocky-mountain-rac.

FOR FURTHER INFORMATION CONTACT: Levi Spellman, Public Affairs Specialist; BLM Rocky Mountain District Office, 3028 E. Main St., Cañon City, CO, 81212; telephone: (719) 269-8553; email: lspellman@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The 15-member RAC advises the Secretary of the Interior, through the BLM, on a variety of public land issues in the Rocky Mountain District of Colorado, including the Royal Gorge Field Office, San Luis Valley Field Office, and Browns Canyon National Monument. Each meeting will include field office updates and a time reserved for open discussion, followed by a public comment period. Depending on the number of people who wish to speak, the time for individual comments may be limited.

The public may submit written comments to the RAC in advance of the meeting to the contact listed in the FOR FURTHER INFORMATION CONTACT section of this notice at least 5 business days prior to the meeting. Any written comments received will be provided to RAC members before the meeting. Please include “RAC Comment” in your submission. Before including your address, phone number, email address, or other personal identifying information in your comment, please be aware that your entire comment—including your personally identifying information—may be made publicly available at any time. While individuals may request their personally identifying information to be withheld from public view, we cannot guarantee that we will be able to do so.

Please make requests in advance for sign language interpreter services, assistive listening devices, or other reasonable accommodations. We ask that you contact the person listed in the FOR FURTHER INFORMATION CONTACT section of this notice at least 7 business days prior to the meeting to give the Department of the Interior sufficient time to process your request. All reasonable accommodation requests are managed on a case-by-case basis.

Detailed minutes for RAC meetings will be maintained in the Rocky Mountain District Office and will be available for public inspection and reproduction during regular business hours within 90 days following the meeting. Previous minutes and agendas are also available on the RAC's web page listed in the ADDRESSES section of this notice.

(Authority: 43 CFR 1784.4-2)

Douglas J. Vilsack,
BLM Colorado State Director.

[FR Doc. 2024-05793 Filed 3-18-24; 8:45 am]

BILLING CODE 4331-16-P